DEPARTMENT OF ENERGY

Environmental Management Advisory Board

AGENCY: Department of Energy.

ACTION: Notice of open meeting.

SUMMARY: This notice announces a meeting of the Environmental Management Advisory Board. The Federal Advisory Committee Act (Public law 92-463, 86 Stat. 770) requires that public notice of these meetings be announced in the Federal Register.

DATES: Friday, November 21, 2003.

ADDRESSES: U.S. Department of Energy, Forrestal Building, 1000 Independence Avenue SW., (Room 1E-245), Washington, DC 20585.

FOR FURTHER INFORMATION CONTACT: James T. Melillo, Executive Director of the Environmental Management Advisory Board, (EM-10), 1000 Independence Avenue SW., (Room 5B-171), Washington, DC 20585. The telephone number is (202) 586-4400. The Internet address is james.melillo@em.doe.gov.

SUPPLEMENTARY INFORMATION: Purpose of the Board: To provide the Assistant Secretary for Environmental Management (EM) with advice and recommendations on corporate issues confronting the Environmental Management Program. The Board will contribute to the effective operation of the Environmental Management Program by providing individual citizens and representatives of interested groups an opportunity to present their views on issues facing the Office of Environmental Management and by helping to secure consensus recommendations on those issues.

Tentative Agenda:

Friday, November 21, 2003.

9 p.m. Public Meeting Open.

—Welcome

—Opening Remarks

—EM Overview

—EM Program Update

—Board Briefing

—Board Business

5 p.m—Public Comment and Adjournment.

Public Participation: This meeting is open to the public. If you would like to file a written statement with the Board, you may do so either before or after the meeting. If you would like to make an oral statement regarding any of the items on the agenda, please contact Mr. Melillo at the address or telephone number listed above, or call the Environmental Management Advisory Board office at (202) 586-4400, and we will reserve time for you on the agenda. Those who call in and or register in advance will be given the opportunity to speak first. Others will be accommodated as time permits. The Board Chair will conduct the meeting in an orderly manner.

Minutes: We will make the minutes of the meeting available for public review and copying by February 22, 2004. The minutes and transcript of the meeting will be available for viewing at the Freedom of Information Public Reading Room (1E-190) in the Forrestal Building, U.S. Department of Energy, 1000 Independence Avenue, SW., Washington, DC 20585. The Room is open Monday through Friday from 9 a.m.-4 p.m. except on Federal holidays.

Issued in Washington, DC, on October 10, 2003.
Rachel M. Samuel,
Deputy Advisory Committee Management Officer.

[FR Doc. 03-26168 Filed 10-15-03; 8:45 am]

BILLING CODE 6450-01-P